MARINE MAMMAL COMMISSION

Sunshine Act Meeting

TIME AND DATE: The Marine Mammal Commission will meet in open session on Tuesday, 7 August 2012, from 9:00 a.m. to 5:00 p.m.

PLACE: Clark Conference Room, Northeast Fisheries Science Center, 166 Water Street, Woods Hole, Massachusetts 02543, telephone (508) 495-2000.

STATUS: The Commission expects that all portions of the meeting will be open to the public. It will allow public participation as time permits and as determined to be desirable by the Chairman. Should it be determined that it is appropriate to close a portion of the meeting to the public, any such closure will be carried out in accordance with applicable regulations (50 CFR 560.5 and 560.6).

Seating for members of the public may be limited. The Commission therefore asks that those intending to attend the meeting advise it in advance by sending an email to the Commission at mmc@mmc.gov or by calling (301) 504-0087. Members of the public will need to present valid, government-issued photo identification and obtain a visitor's pass from the receptionist at the main laboratory building.

MATTERS TO BE CONSIDERED: The Commission plans to meet with regional management and scientific officials in each of the National Marine Fisheries Service's six regions to identify the most pressing marine mammal research and management needs. The Commission will use these meetings to develop a set of national priorities for guiding federal conservation efforts for marine mammals. Members of the public are invited to attend these meetings and to provide comments concerning priority issues. Those unable to attend any of the meetings may submit comments in writing. Written comments should be sent to Timothy J. Ragen, Executive Director, Marine Mammal Commission, 4340 East-West Highway, Room 700, Bethesda, Maryland 20814.

The first meeting will be held in the National Marine Fisheries Service's Northeast Region at the Northeast Fisheries Science Center. Notices of other meetings will be published in the Federal Register and posted on the Commission's Web site (http://www.mmc.gov) when the dates and locations are determined.

CONTACT PERSON FOR MORE INFORMATION: Timothy J. Ragen, Executive Director, Marine Mammal Commission, 4340 East-West Highway, Room 700, Bethesda, MD 20814; (301) 504-0087; email: tragen@mmc.gov.

Dated: July 19, 2012.
Michael L. Gosliner,
General Counsel.

[FR Doc. 2012-18318 Filed 7-24-12; 11:15 am]

BILLING CODE 6820-31-P